DEPARTMENT OF COMMERCE

National Telecommunications and Information Administration

Multistakeholder Meetings To Develop Consumer Data Privacy Code of Conduct Concerning Mobile Application Transparency

AGENCY: National Telecommunications and Information Administration, U.S. Department of Commerce.

ACTION: Notice of Open Meetings.

SUMMARY: The National Telecommunications and Information Administration (NTIA) will convene meetings of a privacy multistakeholder process concerning mobile application transparency. This Notice announces the meetings to be held in April, May, and June 2013.

DATES: The meetings will be held on April 30, 2013; May 23, 2013; and June 11, 2013 from 1:00 p.m. to 5:00 p.m., Eastern Time. See SUPPLEMENTARY INFORMATION for details.

ADDRESSES: The meetings will be held in the Boardroom at the American Institute of Architects, 1735 New York Avenue NW., Washington, DC 20006.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002.

SUPPLEMENTARY INFORMATION: Background: On February 23, 2012, the White House released Consumer Data Privacy in a Networked World: A Framework for Protecting Privacy and Promoting Innovation in the Global Digital Economy (the “Privacy Blueprint”).¹ The Privacy Blueprint directs NTIA to convene multistakeholder processes to develop legally enforceable codes of conduct that specify how the Consumer Privacy Bill of Rights applies in specific business contexts.² On June 15, 2012, NTIA announced that the goal of the first multistakeholder process is to develop a code of conduct to provide transparency in how companies providing applications and interactive services for mobile devices handle personal data.³ On July 12, 2012, NTIA convened the first meeting of the first privacy multistakeholder process, followed by additional meetings through March 2013.

¹ The Privacy Blueprint is available at http://www.whitehouse.gov/sites/default/files/privacy-final.pdf.

² Id.

³ NTIA, First Privacy Multistakeholder Meeting: July 12, 2012, http://www.ntia.doc.gov/other-publication/2012/first-privacy-multistakeholder-meeting-july-12-2012.

Matters to Be Considered: The April 30, 2013; May 23, 2013; and June 11, 2013, meetings are a continuation of a series of NTIA-convened multistakeholder discussions concerning mobile application transparency. Stakeholders will engage in an open, transparent, consensus-driven process to develop a code of conduct regarding mobile application transparency. The April 30, 2013; May 23, 2013; and June 11, 2013, meetings will build on stakeholders' previous work. More information about stakeholders' work is available at: http://www.ntia.doc.gov/other-publication/2012/privacy-multistakeholder-process-mobile-application-transparency.

Time and Date: NTIA will convene meetings of the privacy multistakeholder process on April 30, 2013; May 23, 2013; and June 11, 2013 from 1:00 p.m. to 5:00 p.m., Eastern Time. The meeting times are subject to change. The meetings are subject to cancellation if stakeholders complete their work developing a code of conduct. Please refer to NTIA's Web site, http://www.ntia.doc.gov/other-publication/2012/privacy-multistakeholder-process-mobile-application-transparency, for the most current information.

Place: The meetings will be held in the Boardroom at the American Institute of Architects, 1735 New York Avenue NW., Washington, DC 20006. The location of the meetings is subject to change. Please refer to NTIA's Web site, http://www.ntia.doc.gov/other-publication/2012/privacy-multistakeholder-process-mobile-application-transparency, for the most current information.

Other Information: The meetings are open to the public and the press. The meetings are physically accessible to people with disabilities. Requests for sign language interpretation or other auxiliary aids should be directed to John Verdi at (202) 482-8238 or jverdi@ntia.doc.gov at least seven (7) business days prior to each meeting. The meetings will also be webcast. Requests for real-time captioning of the webcast or other auxiliary aids should be directed to John Verdi at (202) 482-8238 or jverdi@ntia.doc.gov at least seven (7) business days prior to each meeting. There will be an opportunity for stakeholders viewing the webcast to participate remotely in the meetings through a moderated conference bridge, including polling functionality. Access details for the meetings are subject to change. Please refer to NTIA's Web site, http://www.ntia.doc.gov/other-publication/2012/privacy-multistakeholder-process-mobile-application-transparency, for the most current information.

Dated: March 26, 2013.
Kathy Smith,
Chief Counsel, National Telecommunications and Information Administration.

[FR Doc. 2013-07426 Filed 3-29-13; 8:45 am]

BILLING CODE 3510-60-P